ENVIRONMENTAL PROTECTION AGENCY

40 CFR Parts 141 and 142

[FRL-6728-2]

Announcement of Stakeholders Meeting on Arsenic in Drinking Water Proposed Rule

AGENCY: . Environmental Protection Agency.

ACTION: Notice of stakeholders meeting.

SUMMARY: The Environmental Protection Agency (EPA) will be holding a one-day Stakeholders meeting on August 9, 2000 in Reno, Nevada. The purpose of this meeting is to present information and to answer questions on the proposed rule. EPA is encouraging people to attend from State and Tribal drinking water programs, the regulated community (water systems), public health organizations, academia, environmental and public interest groups, engineering firms, and other interested stakeholders.

DATES: The stakeholder meeting on arsenic in drinking water will be held on Wednesday, August 9, 2000 from 8 a.m. to 12 pm and 1 p.m. to 5 p.m. PDT.

ADDRESSES: The meeting will be held at the Reno Hilton [(800) 648-5080], which is located at 2500 E. Second Street, Reno, NV 89595.

To register for the meeting, please contact the Safe Drinking Water Hotline at 1-800-426-4791 between 9 am and 5:30 p.m. EST. Those registered for the meeting by Friday, July 28, 2000 will receive an agenda, logistics sheet, and a copy of the Federal Register notice prior to the meeting. There will be a limited number of conference lines available. These lines will be allocated on a first-reserved, first served basis. Members of the public who cannot attend the meeting in person should register with the Safe Drinking Water Hotline by July 28 to receive copies of the overheads in advance. Please provide your name, organization, title, mailing address, telephone number, facsimile number, e-mail address and telephone number for EPA to connect the caller via conference call [if applicable] for the “Arsenic Meeting.”

FOR FURTHER INFORMATION CONTACT: For general information on meeting logistics, please contact the Safe Drinking Water Hotline at 1-800-426-4791. For information on the activities related to the proposed arsenic rule, contact the Safe Drinking Water Hotline at 1-800-426-4791, or visit the EPA Office of Ground Water and Drinking Water arsenic webpage at http://www.epa.gov/OGWDW/ars/arsenic.html, which contains electronic copies of two fact sheets, the proposed rule, and the discussion papers and executive meeting summaries from previous stakeholders meetings. Registrants must make their own room reservations for the Reno Hilton by July 7, 2000 by calling (800) 648-5080 and mention “EPA Arsenic in Drinking Water Meeting” to guarantee the room rate of $55 plus tax.

SUPPLEMENTARY INFORMATION:

A. Background

Arsenic (As) is a naturally occurring element found in the human body and is present in food, water, and air. Arsenic in drinking water occurs in ground water and surface water and is associated with certain natural geologic conditions, as well as with contamination from human activities. Arsenic ingestion is linked to skin cancer and arsenic inhalation to lung cancer. In addition, arsenic ingestion seems to be associated with vascular effects, gastrointestinal irritation, and cancers of the kidney, bladder, liver, lung, and other organs. Water primarily contains inorganic arsenic species (AsV+ and AsIII+).

On August 6, 1996, Congress amended the SDWA, adding section 1412(b)(12)(A) which requires, in part, that EPA propose a NPDWR for arsenic by January 1, 2000 and issue a final regulation by January 1, 2001. The current maximum contaminant level (MCL) of 50 μg/L remains in effect until the effective date of the revised rule.

The National Primary Drinking Water regulation for arsenic proposes a Maximum Contaminant Level Goal (MCLG) of zero, an MCL of 5 μg/L, and lists best available technologies and small system compliance technologies. In addition, the proposed rule, published June 22, 2000 (65 FR 38888) requests comments on MCLs of 3 μg/L, 10 μg/L, and 20 μg/L. EPA is proposing to withdraw two analytical methods, keeping the rest of the approved test methods for arsenic intact. The regulation will be effective for community water systems (CWSs) serving over 10,000 people three years after the final rule is issued, and effective five years after promulgation for CWSs serving under 10,000 people. In addition, EPA is proposing that non-transient, non-community water systems (NTNCWS) monitor and report arsenic that exceeds the new MCL, but not requiring compliance for NTNCWS with the MCL.

Furthermore, the proposal clarifies compliance for State-determined monitoring after exceedances for inorganic, volatile organic, and synthetic organic contaminants. Finally, EPA is proposing that States will specify the time period and sampling frequency for new public water systems and systems using a new source of water to demonstrate compliance for inorganic, volatile organic, and synthetic organic MCLs.

In conducting research and developing the proposed rule for arsenic in drinking water, EPA has consulted with the National Academy of Sciences, other Federal agencies, and other interested public and private parties.

The stakeholders meeting will cover a broad range of issues including: (1) Regulatory process, including risk management decisions; (2) arsenic risk assessment (exposure, health assessment, national occurrence); (3) key technical assessments (treatment technologies, treatment residuals, cost, analytical methods); (4) small system concerns; and (5) future stakeholder involvement.

EPA has announced this public meeting to discuss the proposed rule prior to the close of the public comment period. The meeting is not the forum for giving the Agency public comment on the rule. The public comment period ends on September 20, 2000, and you may send written comments to the W-99-16 Arsenic Comments Clerk, Water Docket (MC-4101), U.S. EPA, 1200 Pennsylvania Ave. NW, Washington, DC 20460. Comments may be hand delivered to the Water Docket, located at U.S. EPA EB-57, 401 M St. SW, Washington, DC between 9 am. and 3:30 pm., Monday through Friday. Comments may be submitted electronically to ow-docket@epamail.epa.gov. Please submit an original and three copies of your comments and enclosures (including references) to the Water Docket at the address given above. For further information about submitting comments, please contact the Safe Drinking Water Hotline at 1-800-426-4791.

Dated: June 26, 2000.
Cynthia C. Dougherty,
Director, Office of Ground Water and Drinking Water, Environmental Protection Agency.

[FR Doc. 00-16754 Filed 6-30-00; 8:45 am]

BILLING CODE 6560-50-U